FEDERAL COMMUNICATIONS COMMISSION

47 CFR Part 90

[PS Docket 06-229; WT Docket 06-150; WP Docket 07-100; FCC 11-6]

Implementing a Nationwide, Broadband, Interoperable Public Safety Network in the 700 MHz Band

AGENCY: Federal Communications Commission.

ACTION: Final rules; announcement of effective date.

SUMMARY: In this document, the Commission announces that the Office of Management and Budget (OMB) has approved, for a period of three years, the information collection requirements contained in the Third Report and Order in PS Docket 06-229, FCC 11-6. The information collection requirements were approved on August 18, 2011 by OMB.

DATES: The information collections contained in 47 CFR 90.1407(f), published at 76 FR 51271, August 18, 2011, are effective on September 6, 2011.

FOR FURTHER INFORMATION CONTACT: For additional information contact Cathy Williams on (202) 418-2918 or via e-mail to: cathy.williams@fcc.gov.

SUPPLEMENTARY INFORMATION: This document announces that, on August 18, 2011, OMB approved, for a period of three years, the information collection requirements contained in 47 CFR 90.1407(f). The Commission publishes this document to announce the effective date of this rule section. See, Implementing a Nationwide, Broadband, Interoperable Public Safety Network in the 700 MHz Band, PS Docket 06-229; WT Docket 06-150; WP Docket 07-100; FCC 11-6, 76 FR 51271, August 18, 2011.

Synopsis

As required by the Paperwork Reduction Act of 1995, (44 U.S.C. 3507), the Commission is notifying the public that it received OMB approval on August 18, 2011, for the information collection requirement contained in 47 CFR 90.1407(f). Under 5 CFR part 1320, an agency may not conduct or sponsor a collection of information unless it displays a current, valid OMB Control Number.

No person shall be subject to any penalty for failing to comply with a collection of information subject to the Paperwork Reduction Act that does not display a valid OMB Control Number.

The OMB Control Number is 3060-1152 and the total annual reporting burdens for respondents for this information collection are as follows:

Title: Implementing a Nationwide, Broadband, Interoperable Public Safety Network in the 700 MHz Band (Third Report and Order, PS Docket 06-229, FCC 11-6).

Form Number: Not applicable.

Type of Review: New collection.

OMB Control Number: 3060-1152.

OMB Approval Date: 08/18/2011.

OMB Expiration Date: 06/30/2014.

Respondents: Not-for-profit institutions; state, local and tribal governments.

Number of Respondents: 100 respondents; 100 responses.

Estimated Time per Response: 5 hours.

Frequency of Response: One-time reporting requirement.

Obligation to Respond: Required to obtain or retain benefits. Statutory authority for this information collection is contained in 47 U.S.C. 4(i), 201, 303, 309, and 332 of the Communications Act of 1934, as amended.

Total Annual Burden: 500 hours.

Annual Cost Burden: None.

Privacy Act Impact Assessment: N/A.

Nature and Extent of Confidentiality: There is no need for confidentiality with this information collection.

Needs and Uses: The Third Report and Order in PS Docket 06-229, adopted by the Commission on January 25, 2011 and released on January 26, 2011, codifies, as 47 CFR 90.1407(f), the requirement that public safety broadband network operators to certify to the Public Safety and Homeland Security Bureau before deployment that their networks will support required interfaces in compliance with Release 8 or higher of 3GPP standards prior to the date their networks achieve service availability. This certification requirement will enable the Bureau to ensure that public safety broadband networks support all of the interfaces necessary to achieve interoperability from day one of service operation.

Federal Communications Commission.
Bulah P. Wheeler,
Deputy Manager, Office of the Secretary, Office of Managing Director.

[FR Doc. 2011-22617 Filed 9-2-11; 8:45 am]

BILLING CODE 6712-01-P